DEPARTMENT OF DEFENSE

Department of the Navy

[Docket ID USN-2011-0009]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: The changes will be effective on August 1, 2011 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Acting, the Department of the Navy, 2000 Navy Pentagon, Washington, DC 20350-2000, or by phone at (202) 685-6545.

SUPPLEMENTARY INFORMATION: The Department of the Navy systems of records notice subject to the Privacy Act of 1974, (5 U.S.C. § 552a), as amended, has been published in the Federal Register and is available from the address in FOR FURTHER INFORMATION CONTACT.

The proposed systems reports, as required by 5 U.S.C. 552a(r) of the Privacy Act of 1974, as amended, were submitted on June 28, 2011, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996, 61 FR 6427).

Dated: June 28, 2011.
Aaron Siegel,
Alternate OSD Federal Register Liaison Officer, Department of Defense.

N05041-1

System name:

Inspector General (IG) Records (November 20, 2001, 66 FR 58132).

Changes:

System name:

Delete entry and replace with “Naval Inspector General (IG) Investigative Records.”

System location:

Delete entry and replace with “Office of the Naval Inspector General, 1254 Ninth Street, SE., Washington Navy Yard, DC 20374-5006; Inspector General offices at major commands and activities throughout the Department of the Navy and other Naval activities that perform inspector general (IG) functions. Official mailing addresses are published as an appendix to the Navy's compilation of systems of records notices.”

* * * * *

Categories of records in the system:

Delete entry and replace with “Letters/transcriptions of complaints, allegations and queries; tasking orders from the Department of Defense Inspector General, Secretary of the Navy, Chief of Naval Operations, and Commandant of the Marine Corps; requests for assistance from other Navy/Marine Corps commands and activities; appointing letters; reports of investigations, inquiries, and reviews with supporting attachments, exhibits and photographs; records of interviews and synopses of interviews; witness statements; legal review of case files; congressional inquiries and responses; administrative memoranda; letters and reports of action taken; referrals to other commands; letters to complainants and subjects of investigations; court records and results of non-judicial punishment; letters and reports of adverse personnel actions; financial and technical reports; and case number.

These records may contain Personally Identifiable Information (PII), to include full name, full Social Security Number (SSN), home and work telephone numbers, command or unit work information, home address, gender, marital status, age, rank and/or title, and home and/or work e-mail addresses. Moreover, PII that is mentioned by a witness, subject, or complainant during the course of an interview, even if that PII was not solicited, may become part of an Inspector General record.”

Authority for maintenance of the system:

Delete entry and replace with “10 U.S.C. 5014, Office of the Secretary of the Navy; 10 U.S.C. 5020, Naval Inspector General: details; duties; SECNAVINST 5430.57 series, Mission and Functions of the Naval Inspector General; SECNAVINST 5370.5 series, DON Hotline Program; and E.O. 9397 (SSN), as amended.”

* * * * *

Storage:

Delete entry and replace with “Paper records, computerized database, and electronic documents.”

Retrievability:

Delete entry and replace with “By subject's name or SSN; complainant's name; case title or number; command; organization; location; and/or dates.”

Safeguards:

Delete entry and replace with “Access is limited to officials/employees of the office who have a need to know. Files are stored in locked cabinets and rooms in a building with controlled access. Computer files are protected by software systems which are password protected and account restricted.”

Retention and disposal:

Delete entry and replace with “Records of historical significance are permanent. Such records will be transferred to the Naval History and Heritage Command 10 years after the case is closed, and transferred to National Archives and Records Administration 50 years after the case is closed and reviewed for declassification. Records of routine investigations are destroyed 10 years after the investigation is closed. Records of requests for assistance and complaints that are not investigated are destroyed after 2 years. Investigation working papers are destroyed after 2 years. Database tracking records are destroyed when no longer needed for reference. All records destruction shall be accomplished by deletion, shredding or other method that will render the data unrecognizable.”

System manager(s) and address:

Delete entry and replace with “Naval Inspector General, 1254 Ninth Street, SE., Washington Navy Yard, DC 20374-5006 or the local command's IG office. Official mailing addresses are published as an appendix to the Navy's compilation of systems of records notices.”

Notification procedure:

Delete entry and replace with “Individuals seeking to determine whether information about themselves is contained in this system should address written inquiries to the Naval Inspector General, 1254 Ninth Street, SE., Washington Navy Yard, DC 20374-5006 or the relevant command's IG office. Official mailing addresses are published as an appendix to the Navy's compilation of systems of records notices.

The request should include the full name of the requester and/or case number. The records system manager may require an original signature or a notarized signature as a means of proving the identity of the individual requesting access to the records.”

Record access procedures:

Delete entry and replace with “Individuals seeking access to information about themselves contained in this system should address written inquiries to the Naval Inspector General, 1254 Ninth Street, SE., Washington Navy Yard, DC 20374-5006 or the relevant command's IG office. Official mailing addresses are published as an appendix to the Navy's compilation of systems of records notices.

The request should include the full name of the requester and/or case number. The records system manager may require an original signature or a notarized signature as a means of proving the identity of the individual requesting access to the records.”

* * * * *

Exemptions claimed for the system:

Delete entry and replace with “Information specifically authorized to be classified under E.O. 12958, as implemented by DoD 5200.1-R, may be exempt pursuant to 5 U.S.C. 552a(k)(1).

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b)(1), (2), and (3), (c) and (e) and published in 32 CFR part 701, subpart G. For additional information contact the Office of the Naval Inspector General System Manager, Code N1.”

* * * * *

N05041-1

System name:

Naval Inspector General (IG) Investigative Records.

System location:

Office of the Naval Inspector General, 1254 Ninth Street SE., Washington Navy Yard, DC 20374-5006; Inspector General offices at major commands and activities throughout the Department of the Navy and other Naval activities that perform inspector general (IG) functions. Official mailing addresses are published as an appendix to the Navy's compilation of systems of records notices.

Categories of individuals covered by the system:

Any person who has been the subject of, witness for, or referenced in an investigation, as well as any individual who submits a request for assistance or complaint to an Inspector General.

Categories of records in the system:

Letters/transcriptions of complaints, allegations and queries; tasking orders from the Department of Defense Inspector General, Secretary of the Navy, Chief of Naval Operations, and Commandant of the Marine Corps; requests for assistance from other Navy/Marine Corps commands and activities; appointing letters; reports of investigations, inquiries, and reviews with supporting attachments, exhibits and photographs; records of interviews and synopses of interviews; witness statements; legal review of case files; congressional inquiries and responses; administrative memoranda; letters and reports of action taken; referrals to other commands; letters to complainants and subjects of investigations; court records and results of non-judicial punishment; letters and reports of adverse personnel actions; financial and technical reports; and case number.

These records may contain Personally Identifiable Information (PII), to include full name, full Social Security Number (SSN), home and work telephone numbers, command or unit work information, home address, gender, marital status, age, rank and/or title, and home and/or work e-mail addresses. Moreover, PII that is mentioned by a witness, subject, or complainant during the course of an interview, even if that PII was not solicited, may become part of an Inspector General record.

Authority for maintenance of the system:

10 U.S.C. 5014, Office of the Secretary of the Navy; 10 U.S.C. 5020, Naval Inspector General: details; duties; SECNAVINST 5430.57 series, Mission and Functions of the Naval Inspector General; SECNAVINST 5370.5 series, DON Hotline Program; and E.O. 9397 (SSN), as amended.

Purpose(s):

To determine the facts and circumstances surrounding allegations or complaints against Department of the Navy personnel and/or Navy/Marine Corps activities.

To present findings, conclusions, and recommendations developed from investigations and other inquiries to the Secretary of the Navy, Chief of Naval Operations, Commandant of the Marine Corps, or other appropriate Commanders.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Paper records, computerized database, and electronic documents.

Retrievability:

By subject's name or SSN; complainant's name; case title or number; command; organization; location; and/or dates.

Safeguards:

Access is limited to officials/employees of the office who have a need to know. Files are stored in locked cabinets and rooms in a building with controlled access. Computer files are protected by software systems which are password protected and account restricted.

Retention and disposal:

Records of historical significance are permanent. Such records will be transferred to the Naval History and Heritage Command 10 years after the case is closed, and transferred to National Archives and Records Administration 50 years after the case is closed and reviewed for declassification. Records of routine investigations are destroyed 10 years after the investigation is closed. Records of requests for assistance and complaints that are not investigated are destroyed after 2 years. Investigation working papers are destroyed after 2 years. Database tracking records are destroyed when no longer needed for reference. All records destruction shall be accomplished by deletion, shredding or other method that will render the data unrecognizable.

System manager(s) and address:

Naval Inspector General, 1254 Ninth Street, SE., Washington Navy Yard, DC 20374-5006 or the local command's IG office. Official mailing addresses are published as an appendix to the Navy's compilation of systems of records notices.

Notification procedure:

Individuals seeking to determine whether information about themselves is contained in this system should address written inquiries to the Naval Inspector General, 1254 Ninth Street, SE., Washington Navy Yard, DC 20374-5006 or the relevant command's IG office. Official mailing addresses are published as an appendix to the Navy's compilation of systems of records notices.

The request should include the full name of the requester and/or case number. The records system manager may require an original signature or a notarized signature as a means of proving the identity of the individual requesting access to the records.

Record access procedures:

Individuals seeking access to information about themselves contained in this system should address written inquiries to the Naval Inspector General, 1254 Ninth Street, SE., Washington Navy Yard, DC 20374-5006 or the relevant command's IG office. Official mailing addresses are published as an appendix to the Navy's compilation of systems of records notices.

The request should include the full name of the requester and/or case number. The records system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

Complainants; witnesses; Members of Congress; the media; and other military commands or government agencies.

Exemptions claimed for the system:

Information specifically authorized to be classified under E.O. 12958, as implemented by DoD 5200.1-R, may be exempt pursuant to 5 U.S.C. 552a(k)(1).

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b) (1), (2), and (3), (c) and (e) and published in 32 CFR part 701, subpart G. For additional information contact the Office of the Naval Inspector General System Manager, Code N1.

[FR Doc. 2011-16602 Filed 6-30-11; 8:45 am]

BILLING CODE 5001-06-P